DEPARTMENT OF HOMELAND SECURITY

Coast Guard

33 CFR Part 100

[Docket No. USCG-2011-0551]

RIN 1625-AA00; 1625-AA08

Special Local Regulation and Safety Zone; America's Cup Sailing Events, San Francisco, CA; Correction

AGENCY: Coast Guard, DHS.

ACTION: Temporary final rule; correction.

SUMMARY: On July 17, 2012, the Coast Guard published in the Federal Register a temporary final rule establishing a special local regulation for sailing events scheduled to occur on the waters of San Francisco Bay adjacent to the City of San Francisco waterfront in the vicinity of the Golden Gate Bridge and Alcatraz Island. Inadvertently, this rule included errors in four navigational coordinates of the transit zone established for the 2013 America's Cup events. This document corrects those erroneous coordinates.

DATES: Effective on December 10, 2012.

ADDRESSES: Documents mentioned in this preamble are part of docket USCG-2011-0551. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Lieutenant DeCarol Davis, U.S. Coast Guard Sector San Francisco; telephone (415) 399-7443 or email at D11-PF-MarineEvents@uscg.mil. If you have questions on viewing the docket, call Renee V. Wright, Program Manager, Docket Operations, telephone (202) 366-9826.

SUPPLEMENTARY INFORMATION: On July 17, 2012, the Coast Guard published a temporary final rule regulating the on-water activities associated with the “Louis Vuitton Cup,” “Red Bull Youth America's Cup,” and “America's Cup Finals Match” scheduled to occur in July, August, and September, 2013 (77 FR 41902). Among the regulations established by this temporary final rule was a transit zone created to facilitate the safe transit of vessels needing access to pier space and facilities along the City of San Francisco waterfront and to minimize other traffic that may obstruct the waterfront (33 CFR 100.T11-0551B(d)(6), to become effective July 4, 2013-September 23, 2013). An image illustrating the location of the transit zone is available in the docket.

On August 20, 2012, the Coast Guard became aware of errors in the transit zone coordinates after a member of the Coast Guard plotted the transit zone on vessel traffic management software and found four coordinates positioned on land and out of line with the concept of operations developed by the Coast Guard. All four errors can be attributed to data-entry errors, where a 4 was accidently typed as a 2 in the seconds of one coordinate, and a 2 was accidently typed as a 1 in the degrees of three other coordinates. When plotted, the erroneous coordinates do not reflect the transit zone as described in the temporary final rule and shared with the public in diagrams and presentations. The narrative description of the transit zone in the temporary final rule, and the images distributed during outreach, accurately portray the operational intentions of the Coast Guard and the America's Cup regulated areas. To ensure that members of the public have the correct geographical positioning data to locate the regulated areas and navigate around the dangers associated with the sailing events, the Coast Guard is correcting these coordinates to align with the stated intent of the temporary final rule and the images distributed during public outreach. The location and restrictions of 33 CFR 100.T11-0551B remain as they were described on July 17, 2012, and are not changed by this correction.

In Federal Register document 2012-17305 published on July 17, 2012, (77 FR 41902), make the following correction:

§ 100.T11-0551B [Corrected]

1. On page 41908, in the second column, revise the third sentence in paragraph (d)(6) of § 100.T11-0551B to read as follows:

* * * * *

(d) * * *

(6) * * * This transit zone is bounded by the following coordinates: 37°48′40″ N, 122°28′21″ W; 37°48′32″ N, 122°28′00″ W; 37°48′32″ N, 122°26′24″ W; 37°48′39″ N, 122°25′27″ W; 37°48′43″ N, 122°25′13″ W; 37°48′41″ N, 122°24′30″ W; 37°48′28″ N, 122°24′04″ W; 37°48′17″ N, 122°23′54″ W; 37°48′21″ N, 122°23′49″ W; 37°48′33″ N, 122°24′00″ W; 37°48′36″ N, 122°24′07″ W; 37°49′15″ N, 122°24′00″ W; 37°49′21″ N, 122°24′05″ W; 37°48′48″ N, 122°24′40″ W; 37°48′49″ N, 122°25′16″ W; 37°48′37″ N, 122°26′22″ W; 37°48′37″ N, 122°28′00″ W; 37°48′47″ N, 122°28′21″ W (NAD 83).* * *

* * * * *

Dated: November 16, 2012.
Cynthia L. Stowe,
Captain, U.S. Coast Guard, Captain of the Port San Francisco.

[FR Doc. 2012-29751 Filed 12-7-12; 8:45 am]

BILLING CODE 9110-04-P